INTERNATIONAL TRADE COMMISSION

[USITC SE-00-022]

Sunshine Act Meeting

Agency Holding the Meeting: International Trade Commission.

Time and Date: June 2, 2000 at 11:00 a.m.

Place: Room 101, 500 E Street SW., Washington, DC 20436, Telephone: (202) 205-2000.

Status: Open to the public.

Matters to be Considered:

1. Agenda for future meeting: None.

2. Minutes.

3. Ratification List.

4. Inv. No. 731-TA-853 (Final) (Structural Steel Beams from Japan)—briefing and vote. (The Commission will transmit its determination to the Secretary of Commerce on June 9, 2000.)

5. Inv. Nos. AA1921-143 and 731-TA-341, 343-345, 391-397, and 399 (Review) (Certain Bearings from China, France, Germany, Hungary, Italy, Japan, Romania, Singapore, Sweden, and the United Kingdom)—briefing and vote. (The Commission will transmit its determination to the Secretary of Commerce on June 16, 2000.)

6. Outstanding action jackets: None.

In accordance with Commission policy, subject matter listed above, not disposed of at the scheduled meeting, may be carried over to the agenda of the following meeting.

Issued: May 23, 2000.
By order of the Commission.
Donna R. Koehnke,
Secretary.

[FR Doc. 00-13808 Filed 5-30-00; 10:17 am]

BILLING CODE 7020-02-U